DEPARTMENT OF HEALTH AND HUMAN SERVICES

Health Resources and Services Administration

New Methodology and Increase in Low Income Levels for Various Health Professions and Nursing Training and Assistance Programs

AGENCY: Health Resources and Services Administration (HRSA), HHS.

ACTION: Notice.

SUMMARY: HRSA uses “low-income” levels to determine whether an individual is from an economically disadvantaged background in making eligibility and funding determinations for participants in various health professions and nursing grant and cooperative agreement programs authorized by Titles III, VII and VIII of the Public Health Service (PHS) Act. In the past, an individual's economically disadvantaged background status, as a basis for participation in certain programs, was based on the income level of the individual's parents. However, many potential program participants are well above the age of majority. Accordingly, questions have been raised by potential program participants and program officials regarding the feasibility and fairness in determining economically disadvantaged status based solely on the parent's income. This notice updates the low-income levels published by HRSA on August 5, 2003 (68 FR 46199-46200), and changes the methodology used to determine low income for use in these programs beginning in Fiscal Year (FY) 2005.

SUPPLEMENTARY INFORMATION: HRSA publishes low-income levels of families (68 FR 46199-46200, 8/5/03) for the use of various health professions training and assistance programs funded under Titles III, VII, and VIII of the PHS Act in making eligibility and funding determinations for participants in the programs. HRSA establishes these low-income levels based on the poverty guidelines that HHS publishes annually in the Federal Register (68 FR 7336, 2/13/2004). HHS determines the poverty guidelines based on the poverty thresholds established by the U.S. Census Bureau, adjusted annually for changes in the Consumer Price Index.

For FY 2005, HRSA has determined that:

• “Low-income level” as applied to a family is one with an annual income that is below 200 percent of HHS's poverty guidelines, as indicated in the table below, and

• A family is a group of two or more individuals related by birth, marriage, or adoption who live together or an individual who is not living with any relatives.

FY 2005 Low Income Levels
Persons in family ¹ | Income level ²
1 | $18,620
2 | 24,980
3 | 31,340
4 | 37,700
5 | 44,060
6 | 50,420
7 | 56,780
8 | 63,140
¹ Includes only dependents reported on Federal Income tax forms for calendar year 2003.
² Adjusted gross income for calendar year 2003.

New Methodology: Beginning in FY 2005, various programs in HRSA will use a new methodology in the application of low-income levels. Depending on the legislative intent of the program, the programmatic purpose of the low income level, as well as the age and circumstances of the average participant, each program will either apply the low-income levels to the family of the individual participant or to the family of the parents of the individual participant. Each program will announce the rationale and choice of methodology for determining low income levels in their program guidance.

Dated: February 11, 2005.
Elizabeth M. Duke,
Administrator.

[FR Doc. 05-3175 Filed 2-17-05; 8:45 am]

BILLING CODE 4165-15-P